DEPARTMENT OF COMMERCE

National Oceanic and Atmospheric Administration

[RTID 0648-XA702]

Marine Mammals and Endangered Species

AGENCY: National Marine Fisheries Service (NMFS), National Oceanic and Atmospheric Administration (NOAA), Commerce.

ACTION: Notice; issuance of permits and permit amendments.

SUMMARY: Notice is hereby given that permits and permit amendments have been issued to the following entities under the Marine Mammal Protection Act (MMPA) and the Endangered Species Act (ESA), as applicable.

ADDRESSES: The permits and related documents are available for review upon written request via email to NMFS.Pr1Comments@noaa.gov.

FOR FURTHER INFORMATION CONTACT: Shasta McClenahan (Permit No. 21045-01, 21476-01 and 23802) and Erin Markin (Permit No. 23807-01); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in Table 1 below.

Table 1—Issued Permits and Permit Amendments
Permit No. | RTID | Applicant | Previous Federal Register notice | Issuance date
21045-01 | 0648-XA560 | Matson Laboratory, LLC, 135 Wooden Shoe Lane, Manhattan, MT 59741 (Responsible Party: Carolyn Nistler) | 85 FR 65029; October 14, 2020 | November 18, 2020.
21476-01 | 0648-XA442 | Lars Bejder, Ph.D., University of Hawaii at Manoa, 46-007 Lilipuna Road, Kaneohe, HI 96744 | 85 FR 53797; August 31, 2020 | November 6, 2020.
23802 | 0648-XA539 | University of Florida, Aquatic Animal Health Program, College of Veterinary Medicine, 2015 SW 16th Avenue, Gainesville, FL 32608 (Responsible Party: Michael Walsh, DVM) | 85 FR 63104; October 6, 2020 | November 16, 2020.
23807-01 | 0648-XA500 | Plimsoll Productions Limited, 51-55 Whiteladies Road, Bristol, BS8 2LY, United Kingdom (Responsible Party: Anuschka Schofield) | 85 FR 60767; September 28, 2020 | November 5, 2020.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: December 3, 2020.
Julia Marie Harrison,
Chief, Permits and Conservation Division, Office of Protected Resources, National Marine Fisheries Service.

[FR Doc. 2020-26979 Filed 12-8-20; 8:45 am]

BILLING CODE 3510-22-P